DEPARTMENT OF STATE

[Public Notice 8403]

Suggestions for Environmental Cooperation Pursuant to the United States-Colombia Environmental Cooperation Agreement

AGENCY: Department of State.

ACTION: Notice of preparation of and request for comments regarding the first United States—Colombia Environmental Cooperation Work Program.

SUMMARY: The Department invites the public, including NGOs, educational institutions, private sector enterprises and other interested persons, to submit written comments or suggestions regarding items for inclusion in the first Work Program for implementing the United States—Colombia Environmental Cooperation Agreement, which entered into force on June 28, 2013. We encourage submitters to refer to: (1) The U.S.—Colombia Environmental Cooperation Agreement; (2) Chapter 18 (Environment) of the U.S.—Colombia Trade Promotion Agreement; and (3) the Environmental Review of the U.S.—Colombia Trade Promotion Agreement. These documents are available at: http://www.state.gov/e/oes/eqt/trade/c51527.htm.

DATES: To be assured of timely consideration, all written comments or suggestions are requested no later than August 16, 2013.

ADDRESSES: Written comments or suggestions should be emailed to (MartirTorresMC@state.gov) or faxed ((202) 647-5947) to Maina Martir-Torres, Office of Environmental Quality and Transboundary Issues, Bureau of Oceans and International Environmental and Scientific Affairs, U.S. Department of State, with the subject line “U.S.-Colombia Environmental Cooperation.” If you have access to the Internet, you can view and comment on this notice by going to: http://www.regulations.gov/#!home and searching on docket number: DOS-2013-0013

FOR FURTHER INFORMATION, CONTACT: Maina Martir-Torres, telephone (202) 647-4750.

SUPPLEMENTARY INFORMATION:

U.S.-Colombia Environmental Cooperation Agreement

The United States—Colombia Environmental Cooperation Agreement (ECA) entered into force on June 28, 2013. The United States and Colombia negotiated the ECA in parallel with the U.S.—Colombia Trade Promotion Agreement. The ECA establishes a framework to promote cooperation on environmental protection, sustainable management of natural resources, conservation and protection of biodiversity, and strengthening of environmental law enforcement. Article III of the ECA establishes an Environmental Cooperation Commission (ECC), which is responsible for developing work programs that reflect the parties' priorities for cooperative environmental activities.

We are requesting suggestions for cooperative environmental activities to consider for inclusion in the first Work Program. For additional information, please visit: http://www.state.gov/e/oes/eqt/trade/index.htm. Disclaimer: This Public Notice is a request for comments and suggestions, and is not a request for applications. No granting of money is directly associated with this request for suggestions for the Work Program. There is no expectation of resources or funding associated with any comments or suggestions for the Work Program or the Plan of Action.

Dated: July 23, 2013.
Deborah E. Klepp,
Director, Office of Environmental Quality and Transboundary Issues, Department of State.

[FR Doc. 2013-18666 Filed 8-1-13; 8:45 am]

BILLING CODE 4710-09-P